SECURITIES AND EXCHANGE COMMISSION

17 CFR Part 249

[Release No. 34-97478]

Technical Amendments to Form BD and Form BDW

AGENCY: Securities and Exchange Commission.

ACTION: Final rule; technical amendments.

SUMMARY: The Securities and Exchange Commission (“Commission”) is making technical amendments to Form BD and Form BDW, the uniform broker-dealer registration form and the uniform request for withdrawal from broker-dealer registration, respectively. The technical amendments will update the current list of self-regulatory organizations (“SROs”) and government jurisdictions listed on Form BD and Form BDW, and make conforming changes to the definition of “jurisdiction” in the forms.

DATES: Effective Date: May 23, 2023.

FOR FURTHER INFORMATION CONTACT: Emily Westerberg Russell, Chief Counsel, Joanne Rutkowski, Assistant Chief Counsel, Denise Landers, Senior Special Counsel, or Bonnie Gauch, Senior Special Counsel, at (202) 551-5550, Office of the Chief Counsel, Division of Trading and Markets, Securities and Exchange Commission, 100 F Street NE, Washington, DC 20549.

SUPPLEMENTARY INFORMATION: Form BD requires an applicant, or registrant, to indicate the SRO and governmental jurisdiction with which it is registering or registered. For a “partial withdrawal,” ¹ Form BDW requires the applicant to specify the SRO and governmental jurisdiction from which it is withdrawing.² The Commission is making technical amendments to Item 2 of Form BD and Item 3 of Form BDW to update the list of governmental jurisdictions to include Guam, and to update the list of SROs to reflect the registrations of new national securities exchanges or the business combinations and resulting name changes of existing SROs since the last update of Form BD and Form BDW. More specifically, we are updating the list of SROs to reflect these changes to: BOX Exchange LLC (BOX),³ Cboe Exchange, Inc. (CBOE),⁴ Cboe BYX Exchange, Inc. (Cboe BYX),⁵ Cboe BZX Exchange, Inc. (Cboe BZX),⁶ Cboe C2 Exchange, Inc. (C2),⁷ Cboe EDGA Exchange, Inc. (Cboe EDGA),⁸ Cboe EDGX Exchange, Inc. (Cboe EDGX),⁹ Investors Exchange LLC (IEX),¹⁰ Long-Term Stock Exchange, Inc. (LTSE),¹¹ Nasdaq BX, Inc. (BX),¹² Nasdaq GEMX, LLC (GEMX),¹³ Nasdaq ISE, LLC (ISE),¹⁴ Nasdaq MRX, LLC (MRX),¹⁵ Nasdaq PHLX LLC (PHLX),¹⁶ The Nasdaq Stock Market LLC (NASDAQ),¹⁷ NYSE American LLC (NYSE AMER),¹⁸ NYSE Chicago, Inc. (NYSE CHX),¹⁹ NYSE National, Inc. (NYSE NAT),²⁰ Miami International Securities Exchange, LLC (MIAX),²¹ MIAX EMERALD, LLC (EMERALD),²² MIAX PEARL, LLC (PEARL),²³ and MEMX LLC (MEMX).²⁴

¹ A “full withdrawal” terminates registration with the Commission, all SROs, and all jurisdictions. However, a “partial withdrawal” terminates registration with specific jurisdictions and SROs, but does not terminate registration with the Commission and at least one SRO and jurisdiction.

² Section 15(b) of the Securities Exchange Act of 1934 (“Exchange Act”) provides that broker-dealers can register and withdraw from registration under procedures developed by the Commission. Exchange Act Rule 15b1-1 requires that an application for registration of a broker or dealer that is filed pursuant to Section 15(b) of the Exchange Act be filed on Form BD in accordance with the instructions on the form. Exchange Act Rule 15b6-1 requires that a notice of withdrawal from registration as a broker or dealer filed pursuant to Section 15(b) of the Exchange Act be filed on Form BDW in accordance with the instructions on the form. See 15 U.S.C. 78o; 17 CFR 240.15b1-1 and 15b6-1. See also, Form BD and Form BDW 17 CFR 249.501 and 501a.

³ Exchange Act Release No. 83941 (Aug. 24, 2018), 83 FR 44320 (Aug. 30, 2018) (concerning name change from BOX Options Exchange LLC to BOX Exchange LLC); Exchange Act Release No. 66871 (Apr. 27, 2012), 77 FR 26323 (May 3, 2012) (approving BOX Options Exchange LLC application for registration as a national securities exchange).

⁴ Exchange Act Release No. 81981 (Oct. 30, 2017), 82 FR 51309 (Nov. 3, 2017) (concerning name change from Chicago Board Options Exchange, Incorporated to Cboe Exchange, Inc.).

⁵ Exchange Act Release No. 81952 (Oct. 26, 2017), 82 FR 50725 (Nov. 1, 2017) (concerning name change from Bats BYX Exchange, Inc. to Cboe BYX Exchange, Inc.); Exchange Act Release No. 79585 (Dec. 16, 2016), 81 FR 93988 (Dec. 22, 2016) (approving proposed rule change in connection with a corporate transaction involving Bats Global Markets, Inc. and CBOE Holdings, Inc.); Exchange Act Release No. 77308 (Mar. 7, 2016), 81 FR 12975 (Mar. 11, 2016) (concerning name change from BATS Y-Exchange, Inc. to Bats BYX Exchange, Inc.); Exchange Act Release No. 62716 (Aug. 13, 2010), 75 FR 51295 (Aug. 19, 2010) (approving BATS Y-Exchange, Inc. application for registration as a national securities exchange).

⁶ Exchange Act Release No. 81962 (Oct. 26, 2017), 82 FR 50711 (Nov. 1, 2017) (concerning name change from Bats BZX Exchange, Inc. to Cboe BZX Exchange, Inc.); Exchange Act Release No. 79585 (Dec. 16, 2016), 81 FR 93988 (Dec. 22, 2016) (approving proposed rule change in connection with a corporate transaction involving Bats Global Markets, Inc. and CBOE Holdings, Inc.); Exchange Act Release No. 77307 (Mar. 7, 2016), 81 FR 12996 (Mar. 11, 2016) (concerning name change from BATS Exchange, Inc. to Bats BZX Exchange, Inc.); Exchange Act Release No. 58375 (Aug. 18, 2008), 73 FR 49498 (Aug. 21, 2008) (approving BATS Exchange, Inc. application for registration as a national securities exchange).

⁷ Exchange Act Release No. 81979 (Oct. 30, 2017), 82 FR 51317 (Nov. 3, 2017) (concerning name change from C2 Options Exchange, Incorporated to Cboe C2 Exchange, Inc.); Exchange Act Release No. 61152 (Dec. 10, 2009), 74 FR 66699 (Dec. 16, 2009) (approving C2 Options Exchange, Incorporated application for registration as a national securities exchange).

⁸ Exchange Act Release No. 81957 (Oct. 26, 2017), 82 FR 50716 (Nov. 1, 2017) (concerning name change from Bats EDGA Exchange, Inc. to Cboe EDGA Exchange, Inc.); Exchange Act Release No. 79585 (Dec. 16, 2016), 81 FR 93988 (Dec. 22, 2016) (approving proposed rule change in connection with a corporate transaction involving Bats Global Markets, Inc. and CBOE Holdings, Inc.); Exchange Act Release No. 77299 (Mar. 4, 2016), 81 FR 12759 (Mar. 10, 2016) (concerning name change from EDGA Exchange, Inc. to Bats EDGA Exchange, Inc.); Exchange Act Release No. 61698 (Mar. 12, 2010), 75 FR 13151 (Mar. 18, 2010) (approving EDGX Exchange, Inc. and EDGA Exchange, Inc. applications for registration as national securities exchanges).

⁹ Exchange Act Release No. 81963 (Oct. 26, 2017), 82 FR 50697 (Nov. 1, 2017) (concerning name change from Bats EDGX Exchange, Inc. to Cboe EDGX Exchange, Inc.); Exchange Act Release No. 79585 (Dec. 16, 2016), 81 FR 93988 (Dec. 22, 2016) (approving proposed rule change in connection with a corporate transaction involving Bats Global Markets, Inc. and CBOE Holdings, Inc.); Exchange Act Release No. 77298 (Mar. 4, 2016), 81 FR 12757 (Mar. 10, 2016) (concerning name change from EDGX Exchange, Inc. to Bats EDGX Exchange, Inc.); Exchange Act Release No. 61698 (Mar. 12, 2010), 75 FR 13151 (Mar. 18, 2010) (approving EDGX Exchange, Inc. and EDGA Exchange, Inc. applications for registration as national securities exchanges).

¹⁰ Exchange Act Release No. 78101 (June 17, 2016), 81 FR 41141 (June 23, 2016) (approving Investors Exchange LLC registration as a national securities exchange).

¹¹ Exchange Act Release No. 85828 (May 10, 2019), 84 FR 21841 (May 15, 2019) (approving Long-Term Stock Exchange, Inc. registration as a national securities exchange).

¹² Exchange Act Release No. 81948 (Oct. 25, 2017), 82 FR 50468 (Oct. 31, 2017) (concerning name change from NASDAQ BX, Inc. to Nasdaq BX, Inc.); Exchange Act Release No. 76656 (Dec. 15, 2015), 80 FR 79381 (Dec. 21, 2015) (concerning name change from NASDAQ OMX BX, Inc. to NASDAQ BX, Inc.); Exchange Act Release No. 60358 (July 21, 2009), 74 FR 37277 (July 28, 2009) (concerning name change from the Boston Stock Exchange, Inc. to NASDAQ OMX BX, Inc.); Exchange Act Release No. 58324 (Aug. 7, 2008), 73 FR 46936 (Aug. 12, 2008) (approving proposed rule change in connection with the acquisition of the Boston Stock Exchange, Inc. by The NASDAQ OMX Group, Inc.).

¹³ Exchange Act Release No. 80248 (Mar. 15, 2017), 82 FR 14547 (Mar. 21, 2017) (concerning name change from ISE Gemini, LLC to Nasdaq GEMX, LLC); Exchange Act Release No. 71586 (Feb. 20, 2014), 79 FR 10861 (Feb. 26, 2014) (concerning name change from Topaz Exchange, LLC to ISE Gemini, LLC); Exchange Act Release No. 70050 (July 26, 2013), 78 FR 46622 (Aug. 1, 2013) (approving Topaz Exchange, LLC application for registration as a national securities exchange).

¹⁴ Exchange Act Release No. 80325 (Mar. 29, 2017), 82 FR 16445 (Apr. 4, 2017) (concerning name change from International Securities Exchange, LLC to Nasdaq ISE, LLC).

¹⁵ Exchange Act Release No. 80326 (Mar. 29, 2017), 82 FR 16460 (Apr. 4, 2017) (concerning name change from ISE Mercury, LLC to Nasdaq MRX, LLC); Exchange Act Release No. 76998 (Jan. 29, 2016), 81 FR 6066 (Feb. 4, 2016) (approving ISE Mercury, LLC application for registration as a national securities exchange).

¹⁶ Exchange Act Release No. 81938 (Oct. 24, 2017), 82 FR 50185 (Oct. 30, 2017) (concerning name change from NASDAQ PHLX LLC to Nasdaq PHLX LLC); Exchange Act Release No. 76654 (Dec. 15, 2015), 80 FR 79396 (Dec. 21, 2015) (concerning name change from NASDAQ OMX PHLX LLC to NASDAQ PHLX LLC); Exchange Act Release No. 62783 (Aug. 27, 2010), 75 FR 54204 (Sept. 3, 2010) (concerning the conversion of NASDAQ OMX PHLX, Inc. to a limited liability company); Exchange Act Release No. 58380 (Aug. 18, 2008), 73 FR 49728 (Aug. 22, 2008) (concerning name change from the Philadelphia Stock Exchange, Inc. to NASDAQ OMX PHLX, Inc.); Exchange Act Release No. 58179 (July 17, 2008), 73 FR 42874 (July 23, 2008) (approving proposed rule change in connection with the acquisition of the Philadelphia Stock Exchange, Inc. by The NASDAQ OMX Group, Inc.).

¹⁷ Exchange Act Release No. 81917 (Oct. 23, 2017), 82 FR 49879 (Oct. 27, 2017) (concerning name change from The NASDAQ Stock Market LLC to The Nasdaq Stock Market LLC).

¹⁸ Exchange Act Release No. 80283 (Mar. 21, 2017), 82 FR 15244 (Mar. 27, 2017) (concerning name change from NYSE MKT LLC to NYSE American LLC); Exchange Act Release No. 67037 (May 21, 2012), 77 FR 31415 (May 25, 2012) (concerning name change from NYSE Amex LLC to NYSE MKT LLC); Exchange Act Release No. 59575 (Mar. 13, 2009), 74 FR 11803 (Mar. 19, 2009) (concerning name change from NYSE Alternext US LLC to NYSE Amex LLC); Exchange Act Release No. 58673 (Sept. 29, 2008), 73 FR 57707 (Oct. 3, 2008) (approving proposed rule change in connection with the acquisition of American Stock Exchange LLC by NYSE Euronext and renaming as NYSE Alternext US LLC).

¹⁹ Exchange Act Release No. 84494 (Oct. 26, 2018), 83 FR 54953 (Nov. 1, 2018) (concerning name change from the Chicago Stock Exchange, Inc. to NYSE Chicago, Inc.); Exchange Act Release No. 83635 (July 13, 2018), 83 FR 34182 (July 19, 2018) (approving proposed rule change in connection with the indirect acquisition of the Chicago Stock Exchange, Inc. by NYSE Group, Inc.).

²⁰ Exchange Act Release No. 79902 (Jan. 30, 2017), 82 FR 9258 (Feb. 3, 2017) (approving proposed rule change in connection with National Stock Exchange, Inc.'s acquisition by NYSE Group, Inc. and renaming as NYSE National, Inc.).

²¹ Exchange Act Release No. Release No. 68341 (Dec. 3, 2012), 77 FR 73065 (Dec. 7, 2012) (approving Miami International Securities Exchange, LLC application for registration as a national securities exchange).

²² Exchange Act Release No. 84891 (Dec. 20, 2018), 83 FR 67421 (Dec. 28, 2018) (approving MIAX EMERALD, LLC application for registration as a national securities exchange).

²³ Exchange Act Release No. 79543 (Dec. 13, 2016), 81 FR 92901 (Dec. 20, 2016); (approving MIAX PEARL, LLC application for registration as a national securities exchange).

²⁴ Exchange Act Release No. 88806 (May 4, 2020), 85 FR 27451 (May 8, 2020) (approving MEMX LLC application for registration as a national securities exchange).

In addition, we are making conforming changes to the definition of “jurisdiction” to include Guam, a United States territory. “Jurisdiction” will be defined as: “A state, the District of Columbia, the Commonwealth of Puerto Rico, the U.S. Virgin Islands, Guam, or any subdivision or regulatory body thereof.”

List of Subjects in 17 CFR Part 249

Broker-dealers, reporting and recordkeeping requirements, Securities.

Statutory Authority

We are adopting the technical amendments to Forms BD and BDW under the authority set forth in the Exchange Act and, in particular, Sections 15(a), 15(b), 17(a), and 23(a) therein.²⁵

²⁵ 15 U.S.C. 78o(a), 78o(b), 78q(a), and 78w(a).

Text of Amendments

For the reasons set out in the preamble, 17 CFR part 249 is amended as follows:

PART 249—FORMS, SECURITIES EXCHANGE ACT OF 1934

1. The general authority citation for part 249 continues to read as follows:

Authority: 15 U.S.C. 78a et seq. and 7201 et seq.; 12 U.S.C. 5461 et seq.; 18 U.S.C. 1350; Sec. 953(b) Pub. L. 111-203, 124 Stat. 1904; Sec. 102(a)(3) Pub. L. 112-106, 126 Stat. 309 (2012), Sec. 107 Pub. L. 112-106, 126 Stat. 313 (2012), Sec. 72001 Pub. L. 114-94, 129 Stat. 1312 (2015), and secs. 2 and 3 Pub. L. 116-222, 134 Stat. 1063 (2020), unless otherwise noted.

* * * * *

2. Form BD (referenced in § 249.501) is amended by:

a. In the Explanation of Terms, 1. General section, removing the words “JURISDICTION—A state, the District of Columbia, the Commonwealth of Puerto Rico, the U.S. Virgin Islands, or any subdivision or regulatory body thereof.” and add, in their place, the words “JURISDICTION—A state, the District of Columbia, the Commonwealth of Puerto Rico, the U.S. Virgin Islands, Guam, or any subdivision or regulatory body thereof.”; and

b. In Item 2, revising the SRO and Jurisdiction tables.

The revisions read as follows:

Note: The text of Form BD does not, and the amendments will not, appear in the Code of Federal Regulations.

Form BD

* * * * *

2. * * *

* * * * *

3. Form BDW (referenced in § 249.501a) is amended by:

a. In the Explanation of Terms section, removing the words “The term JURISDICTION means a state, the District of Columbia, the Commonwealth of Puerto Rico, the U.S. Virgin Islands, or any subdivision or regulatory body thereof.” and adding, in their place, the words “The term JURISDICTION means a state, the District of Columbia, the Commonwealth of Puerto Rico, the U.S. Virgin Islands, Guam, or any subdivision or regulatory body thereof.”; and

b. In Item 3, revising the SRO and Jurisdiction tables.

The revisions read as follows:

Note: The text of Form BDW does not, and the amendments will not, appear in the Code of Federal Regulations.

Form BDW

* * * * *

3. * * *

* * * * *

Dated: May 11, 2023.
J. Matthew DeLesDernier,
Deputy Secretary.

[FR Doc. 2023-10442 Filed 5-22-23; 8:45 am]

BILLING CODE 8011-01-P